INTERNATIONAL BOUNDARY AND WATER COMMISSION, UNITED STATES AND MEXICO

United States Section; Final Environmental Impact Statement, Flood Control Improvements and Partial Levee Relocation, United States Section, International Boundary and Water Commission (USIBWC) Presidio Flood Control Project (FCP), Presidio, TX

AGENCY: United States Section, International Boundary and Water Commission.

ACTION: Notice of Availability for the Record of Decision (ROD).

SUMMARY: This notice is provided in accordance with 40 Code of Federal Regulations (CFR) parts 1500-1508 of the National Environmental Policy Act (NEPA), and USIBWC procedures for implementing NEPA. The USIBWC anticipates the need to improve existing levees in the Presidio FCP or to relocate portions of the Presidio FCP levees. An Environmental Impact Statement (EIS) was prepared to evaluate potential consequences of each action alternative in reference to flood control improvements. Following the evaluation of each alternative in the EIS, the USIBWC selected Alternative 2 (rehabilitation of existing levee to provide 25-year flood protection) as the preferred alternative, and will use the ETS as a guide in developing construction plans.

FOR FURTHER INFORMATION CONTACT: Mr. Daniel Borunda, Acting Division Chief, Environmental Management Division, USIBWC, 4171 North Mesa Street, C-l00, El Paso, Texas 79902 or e-mail: daniel.borunda@ibwc.gov.

SUPPLEMENTARY INFORMATION: The Presidio FCP lies within the Presidio-Ojinaga Valley, in southern Presidio County, Texas. It extends approximately 13.1 river miles along the Rio Grande Texas-Mexico border. The length of the levee system in the United States (north levee of the Presidio FCP) is approximately 15.3 miles, and includes the downstream section of Cibolo Creek, a tributary of the Rio Grande north of the City of Presidio.

During September 2008, the Presidio FCP experienced severe flooding conditions due to water releases from the Luis Leon Reservoir on Rio Conchos in Mexico. The flooding caused substantial damage to the Presidio FCP, including levee breaches, overtopping, piping/sand boils, under-seepage, and severe surface and slope erosion. The flooding also potentially compromised the integrity of the levee foundation within several levee segments, primarily at locations of old river meanders. Emergency responses during the flooding event included filling over 25,000 sand bags and placing the bags on the existing levee to add support, and using Department of Defense helicopters to fill bridge openings with larger sand bags in existing railroad right-of-ways to create secondary levees. The sandbags and secondary levees prevented the City of Presidio from experiencing more extensive flooding.

In response to the September 2008 flooding damage, the USIBWC developed engineering alternatives for long-term improvement of the Presidio FCP flood containment capacity. The EIS evaluates a No Action Alternative and six Action Alternatives for levee rehabilitation or relocation that would allow USIBWC to minimize potential environmental impacts and fulfill the project goal of flood protection. A Draft EIS was released for a 45-day public review period on November 24, 2009. Oral comments were also received from during a public hearing held in the City of Presidio, Texas on December 10, 2009. The Environmental Protection Agency Notice of Availability of the Final PEIS was published in the Federal Register on February 26, 2010 for a 30-day wait period.

Finding: Based on engineering, economic, and environmental considerations, the USIBWC has selected Alternative 2 (repair and raise the levee to provide 25-year flood protection) as the preferred option for implementation. Because of the damage to the existing levee during the September 2008 flooding (including severe erosion, levee breaches, and levee under-seepage), the existing levee is insufficient to contain a 25-year design flood. Therefore, under Alternative 2, the existing levee would be repaired, and sections of the existing levee would be raised, as needed, to provide the 25-year design flood protection. This would improve the functionality of the existing levee and provide protection to the City of Presidio and adjacent agricultural areas from a 25-year design flood.

Availability: Copies of the Record of Decision may be obtained by request at the above address. Electronic copies may also be obtained from the USIBWC Home Page at: http://www.ibwc.gov.

Dated: March 31, 2010.
Steven M. Fitten,
General Counsel.

[FR Doc. 2010-7911 Filed 4-8-10; 8:45 am]

BILLING CODE 7010-01-M